DEPARTMENT OF THE INTERIOR

Minerals Management Service

[Docket No. MMS-2010-MRM-0004]

Agency Information Collection Activities: Proposed Collection, Comment Request

AGENCY: Minerals Management Service (MMS), Interior.

ACTION: Notice of an extension of a currently approved information collection (OMB Control Number 1010-0120).

SUMMARY: To comply with the Paperwork Reduction Act of 1995 (PRA), we are inviting comments on a collection of information that we will submit to the Office of Management and Budget (OMB) for review and approval. The title of this information collection request (ICR) is “30 CFR Parts 202, 206, 210, 212, 217, and 218, Solid Minerals and Geothermal Collections.”

DATES: Submit written comments on or before June 11, 2010.

ADDRESSES: You may submit comments on this ICR to MMS by any of the following methods. Please use “ICR 1010-0120” as an identifier in your comment.

• Electronically go to http://www.regulations.gov. In the entry titled “Enter Keyword or ID,” enter MMS-2010-MRM-0004, and then click search. Follow the instructions to submit public comments. The MMS will post all comments.

• Mail comments to Armand Southall, Regulatory Specialist, Minerals Management Service, Minerals Revenue Management, P.O. Box 25165, MS 61013B, Denver, Colorado 80225. Please reference ICR 1010-0120 in your comments.

• Hand-carry comments or use an overnight courier service. Our courier address is Building 85, Room A-614, Denver Federal Center, West 6th Ave., and Kipling St., Denver, Colorado 80225. Please reference ICR 1010-0120 in your comments.

FOR FURTHER INFORMATION CONTACT: For questions on technical issues, contact Glenn W. Kepler, Sr., Solid Minerals and Geothermal (SM&G), Minerals Revenue Management (MRM), MMS, telephone (303) 231-3346, or e-mail glenn.kepler@mms.gov. For other comments or questions, contact Armand Southall, Regulatory Specialist, Project Management Office—Regulations, MRM, MMS, telephone (303) 231-3221, or e-mail armand.southall@mms.gov. You may contact Mr. Southall to obtain copies, at no cost, of (1) the ICR, (2) any associated forms, and (3) the regulations that require the subject information collection.

SUPPLEMENTARY INFORMATION:

Title: 30 CFR Parts 202, 206, 210, 212, 217, and 218, Solid Minerals and Geothermal Collections.

OMB Control Number: 1010-0120.

Bureau Form Numbers: Forms MMS-4430, MMS-4292, and MMS-4293.

Abstract: The Secretary of the U.S. Department of the Interior is responsible for collecting royalties from lessees who produce minerals from leased Federal and Indian lands. The Secretary is required by various laws to manage mineral resources production on Federal and Indian lands, collect the royalties due, and distribute the funds in accordance with those laws. The Secretary also has a trust responsibility to manage Indian lands and seek advice and information from Indian beneficiaries. The MMS performs the royalty management functions and assists the Secretary in carrying out the Department's trust responsibility for Indian lands.

Public laws pertaining to mineral leases on Federal and Indian lands are posted at http://www.mrm.mms.gov/Laws_R_D/PublicLawsAMR.htm.

When a company or an individual enters into a lease to explore, develop, produce, and dispose of minerals from Federal or Indian lands, that company or individual agrees to pay the lessor a share (royalty) of the value received from production from the leased lands. The lease creates a business relationship between the lessor and the lessee. The lessee is required to report various kinds of information to the lessor relative to the disposition of the leased minerals. The information collected includes data necessary to assure that royalties are accurately valued and appropriately paid.

The MMS, acting for the Secretary, uses all of the collected information to support the Minerals Revenue Management Audit and Compliance Management (ACM) and Financial Management (FM) processes, and to assure that royalties reported and paid are based upon correct product valuation and allocated to the proper leases. The MMS also uses the collected information, as do other Federal Government, State, and tribal entities, for audit purposes and to evaluate the reasonableness of product valuation, production and sales allocation, or coal washing and/or transportation allowance claim(s) that lessees submit. Specifically, MMS provides the Bureau of Land Management (BLM) and the Bureau of Indian Affairs (BIA) access to this information, which they use to conduct production verification, ensure lease diligence, and monitor plant efficiencies and inventories for maximum recovery, and secondary products. The MMS's determination of the appropriate product value, production and sales allocations, and coal washing and/or transportation allowance(s) taken directly affects the royalties due. Failure to collect such data would prevent the Secretary from accomplishing statutory and trust responsibilities.

• Form MMS-4430, Solid Minerals Production and Royalty Report—Producers of coal and other solid minerals from Federal and Indian leases electronically file this form monthly. The SM&G uses this report as the primary accounts receivable document for all solid minerals royalties. The producers report the data, on a mine-level basis, which contains basic lease-level production volume, valuation, and sales information. The SM&G analyzes this production and royalty information to assure compliance of all payments with lease terms, regulations, and MMS policies including but not limited to product valuation, production and sales allocation, and coal washing and/or transportation allowance(s) calculation.

• Contracts and Contract Amendments—Coal and metal producers submit sales contracts, agreements, and contract amendments semi-annually. Sodium, potassium, phosphate, and other solid mineral producers, with leases containing ad valorem royalty terms, submit the required documents only if specifically requested by MMS.

• Sales Summaries—The SM&G compares sales summary information from purchasers to production, and royalty information submitted on Form MMS-4430 and facility data submissions.

• Facility Data—Operators of wash plants and of refining, ore concentration, or other processing facilities for any coal, sodium, potassium, metals, or other solid minerals submit facility data information for months in which they process or carry an inventory. The SM&G uses this facility information in its compliance process.

• Additional Documents or Evidence—The MMS requests detailed statements, documents, or other evidence, i.e. spot sale invoices, weigh tickets, laboratory quality reports, transportation contracts, and service contracts, supporting our ACM responsibilities under Federal and Indian lease terms. The information might further define a cost or verify a claim made by the producer.

Form MMS-4292—Coal Washing Allowance Report and Form MMS-4293—Coal Transportation Allowance Report—This ICR also provides for the collection of coal washing and transportation allowance information for Indian leases. The information collected is essential for the royalty valuation process.

The MMS developed Forms MMS-4292, Coal Washing Allowance Report, and MMS-4293, Coal Transportation Allowance Report, for industry to complete when reporting or requesting a washing or transportation allowance.

Geothermal Resources—This ICR also provides for the collection of information on the current royalty valuation methods for geothermal resources, which are grouped by usage (electrical generation, direct use, and by-product recovery), and by disposition of the resources (arm's-length [unaffiliated] contract sales, non-arm's-length contract sales, and no contract sales) within each usage group. The MMS relies on data that payors report on Form MMS-2014 (ICR 1010-0139) for the majority of our business processes including geothermal information.

OMB Approval

The information we collect under this ICR is essential for the royalty valuation process. Not collecting this information would limit the Secretary's ability to discharge fiduciary duties and may also result in the inability to confirm the accurate royalty value.

Proprietary information submitted to MMS under this collection is protected. No items of a sensitive nature are collected. Responses are mandatory for Form MMS-4430. A response is required to obtain benefits for Forms MMS-4292 and MMS-4293.

Frequency of Response: On occasion, annually, monthly.

Estimated Number and Description of Respondents: 144 reporters.

Estimated Annual Reporting and Recordkeeping “Hour” Burden: 3,670 hours.

We have not included in our estimates certain requirements performed in the normal course of business and considered usual and customary. The following chart shows the estimated burden hours by CFR section and paragraph:

Respondents' Estimated Annual Burden Hours
Citation 30 CFR | Reporting and recordkeeping requirement | Hour burden | Average No. annual responses | Annual burden hours
Part 202—Royalties
Subpart H—Geothermal Resources
202.351(b)(3) | Pay royalties on used, sold, or otherwise finally disposed of byproducts | Hour burden covered under OMB Control Number 1010-0139.
202.353(a), (b), (c), and (d) | Report on Form MMS-2014, royalties or direct use fee due for geothermal resources, byproduct quantity, and commercially demineralized water quantity | Hour burden covered under OMB Control Number 1010-0139. See § 210.52.
202.353(e) | Maintain quality measurements for audits | AUDIT PROCESS. See Note.
Part 206—Product Valuation
Subpart F—Federal Coal
206.253(c); 206.254; 206.257(d)(1) | Maintain accurate records for Federal lease coal and all data relevant to the royalty value determination. Report the coal quantity information on appropriate forms under 30 CFR part 210 | .4166 | 816 | 340
206.257(b)(1), (b)(3), (b)(4), (d)(2) | Demonstrate and certify your arm's-length contract provisions including all consideration paid by buyer, directly or indirectly, for coal production. Provide written information of reported arm's-length coal sales value and quantity data | AUDIT PROCESS. See Note.
206.257(d)(3) | Submit a one-time notification when first reporting royalties on Form MMS-4430 and for a change in method | 2 | 1 | 2
206.257(f) | Submit all available data relevant to the value determination proposal | 5 | 1 | 5
206.257(i) | Write and sign contract revisions or amendments by all parties to an arm's-length contract, and retroactively apply revisions or amendments to royalty value for a period not to exceed two years | 2 | 1 | 2
206.259(a)(1), (a)(3) | Demonstrate that your contract is arm's-length. Provide written information justifying the lessee's washing costs | AUDIT PROCESS. See Note.
206.259(a)(1) | Report actual washing allowance on Form MMS-4430 for arm's-length sales | .34 | 12 | 4
206.259(b)(1) | Report actual washing allowance on Form MMS-4430 for non-arm's-length or no contract sales | .75 | 48 | 36
206.259(b)(2)(iv) | Report washing allowance on Form MMS-4430 after lessee elects either method for a wash plant | 1 | 1 | 1
206.259(b)(2)(iv)(A) | Report washing allowance on Form MMS-4430 for depreciation—use either straight-line, or a unit of production method | 1 | 1 | 1
206.259(c)(1), (c)(2) | Submit arm's-length and non-arm's-length washing contracts and related documents to MMS | AUDIT PROCESS. See Note.
206.262(a)(1) | Report transportation allowance on Form MMS-4430 | .33 | 240 | 80
206.262(a)(1), (a)(3) | Demonstrate that your contract is arm's-length. Provide written information justifying your transportation costs when MMS determines the costs unreasonable | AUDIT PROCESS. See Note.
206.262(b)(1) | Report actual transportation allowance on Form MMS-4430 for non-arm's-length or no contract sales | .75 | 24 | 18
206.262(b)(2)(iv) | Report transportation allowance on Form MMS-4430 after lessee elects either method for a transportation system | 1 | 1 | 1
206.262(b)(2)(iv)(A) | Report transportation allowance on Form MMS-4430 for depreciation—use either straight-line, or a unit of production method | 1 | 1 | 1
206.262(b)(3) | Apply to MMS for exception from the requirement of computing actual costs | 1 | 1 | 1
206.262(c)(1), (c)(2), (e) | Submit all arm's-length transportation contracts, production agreements, operating agreements, and related documents to MMS | AUDIT PROCESS. See Note.
206.264 | Propose the value of coal for royalty purposes to MMS for an ad valorem Federal coal lease | 1 | 1 | 1
206.265 | Notify MMS if, prior to use, sale, or other disposition, you enhanced the value of coal | 1 | 1 | 1
Subpart H—Geothermal Resources
206.301(b) | Certify values reported for royalty purposes as bona fide sales not involving considerations other than the sale of the mineral, and required to supply supporting information | AUDIT PROCESS. See Note.
206.352(b)(1)(ii) | Determine the royalty on produced geothermal resources, used in your power plant for generation and sale of electricity, for Class I leases, as approved by MMS | 1 | 1 | 1
206.353(c)(2)(i)(A), (d)(9), (e)(4) | Include a return on capital you invested when the purchase of real estate for transmission facilities is necessary. Allowable operating and maintenance expenses include other directly allocable and attributable operating and maintenance expenses that you can document | AUDIT PROCESS. See Note.
206.353(g) | Request change to other depreciation alternative method with MMS approval | 1 | 1 | 1
206.353(h)(1) | Use a straight-line depreciation method, but not below salvage value, for equipment | 1 | 1 | 1
206.353(m)(2) | Amend your prior estimated Form MMS-2014 reports to reflect actual transmission cost deductions, and pay any additional royalties due plus interest | Hour burden covered under OMB Control Number 1010-0139.
206.353(n) | Submit all arm's-length transmission contracts, production and operating agreements and related documents, and other data for calculating the deduction | AUDIT PROCESS. See Note.
206.354(b)(1)(ii) | Redetermine your generating cost rate annually and request MMS approval to use a different deduction period | 1 | 1 | 1
206.354(c)(2)(i)(A), (d)(9), (e)(4) | Include a return on capital you invested when the purchase of real estate for a power plant site is necessary. Allowable operating and maintenance expenses include other directly allocable and attributable operating and maintenance expenses that you can document | AUDIT PROCESS. See Note.
206.354(g) | Request change to other depreciation alternative method with MMS approval | 1 | 1 | 1
206.354(h) | Use a straight-line depreciation method, but not below the salvage value, for equipment | 1 | 1 | 1
206.354(m)(2) | Amend your prior estimated Form MMS-2014 reports to reflect actual generating cost deductions and pay any additional royalties due plus interest | Hour burden covered under OMB Control Number 1010-0139.
206.354(n) | Submit all arm's-length power plant contracts, production and operating agreements and related documents, and other data for calculating the deduction | AUDIT PROCESS. See Note.
206.356(a)(1) | Determine the royalty on produced significant geothermal resource quantities, for Class I leases, with the weighted average of the arm's-length gross proceeds used to operate the same direct-use facility | 1 | 1 | 1
206.356(a)(2) | For Class I leases, the efficiency factor of the alternative energy source will be 0.7 for coal and 0.8 for oil, natural gas, and other fuels derived from oil and natural gas, or an efficiency factor proposed by the lessee and approved MMS | 48 | 2 | 96
206.356(a)(3) | For Class I leases, a royalty determined by any other reasonable method approved by MMS | 1 | 1 | 1
206.356(b)(3) | Provide MMS data showing the geothermal production amount, in pounds or gallons of geothermal fluid, to input into the fee schedule for Class III leases | 1 | 1 | 1
206.356(c) | The MMS will determine fees on a case-by-case basis for geothermal resources other than hot water | 1 | 1 | 1
206.357(b)(3) | Determine the royalty due on byproducts by any other reasonable valuation method approved by MMS | 1 | 1 | 1
206.358(d) | Use a discrete field on Form MMS-2014 to notify MMS of a transportation allowance | Hour burden covered under OMB Control Number 1010-0139.
206.358(d)(2) | Submit arm's-length transportation contracts for reviews and audits, if MMS require | AUDIT PROCESS. See Note.
206.358(e) | Pay any additional royalties due plus interest, if you have improperly determined a byproduct transportation allowance | AUDIT PROCESS. See Note.
206.359(a)(1), (a)(2), (c)(2)(i)(A), (d)(9), (e)(4) | Provide written information justifying your transportation costs if MMS require you to determine the byproduct transportation allowance. Include a return on capital if the purchase was necessary. Allowable operating and maintenance expenses include any other directly allocable and attributable operating and maintenance expenses that you can document | AUDIT PROCESS. See Note.
206.359(g) | The lessee may not later elect to change to the other alternative without MMS approval to compute costs associated with capital investment | 1 | 1 | 1
206.359(h)(1) | You must use a straight-line depreciation method based on the life of either equipment, or geothermal project | 1 | 1 | 1
206.359(l)(2) | You must amend your prior Form MMS-2014 reports to reflect actual byproduct transportation cost deductions and pay any additional royalties due plus interest | Hour burden covered under OMB Control Number 1010-0139.
206.360(a)(1), (a)(2), (b) | Retain all data relevant to the royalty value, or fee you paid. Show how you calculated, then submit all data to MMS upon request | AUDIT PROCESS. See Note.
206.361(a)(1) | The MMS may review and audit your data and will direct you to use a different measure, if royalty value, gross proceeds, or fee is inconsistent with subpart | AUDIT PROCESS. See Note.
206.361(a)(2) | Pay either royalties or fees due plus interest if MMS directs you to use a different royalty value, measure of gross proceeds, or fee | Hour burden covered under OMB Control Number 1010-0139.
206.361(b), (c), (d) | The MMS may require you to: Increase the gross proceeds to reflect any additional consideration; use another valuation method; provide written information justifying your gross proceeds; demonstrate that your contract is arm's length; and certify that the provisions in your sales contract include all of the consideration the buyer paid you | AUDIT PROCESS. See Note.
206.361(f)(2) | Write and sign contract revisions or amendments by all parties to the contract | 1 | 1 | 1
206.364(a)(1) | Request a value determination from MMS in writing | 3 | 20 | 60
206.364(c)(2) | Make any adjustments in royalty payments, if you owe additional royalties, and pay the royalties owed plus interest after the Assistant Secretary issues a determination | Hour burden covered under OMB Control Number 1010-0139.
206.364(d)(2) | You may appeal an order requiring you to pay royalty under the determination | Hour burden covered under OMB Control Number 1010-0122.
206.366 | State, tribal, or local government lessee must pay a nominal fee, if uses a geothermal resource | Hour burden covered under OMB Control Number 1010-0139.
Subpart J—Indian Coal
206.456(b)(1), (b)(3), (b)(4) | Demonstrate that your contract is arm's-length. Provide written information justifying the reported coal value. And certify that your arm's-length contract provisions include all direct or indirect consideration paid by buyer for the coal production | AUDIT PROCESS. See Note.
206.456(d)(1); 206.452 (c); 206.453 | Retain all data relevant to the determination of royalty value to which individual Indian lease coal should be allocated. Report coal quantity information on Form MMS-4430, Solid Minerals Production and Royalty Report, as required under 30 CFR part 210 | .42 | 48 | 20
206.456(d)(2) | An Indian lessee will make available arm's-length sales and sales quantity data for like-quality coal sold, purchased, or otherwise obtained from the area when requested by an authorized MMS or Indian representative, or the Inspector General of the Department of the Interior or other persons authorized to receive such information | AUDIT PROCESS. See Note.
206.456(d)(3) | Notify MMS by letter identifying the valuation method used and procedure followed | 1 | 1 | 1
206.456(f) | Propose a value determination method to MMS; submit all available data relevant to method; and use that method until MMS decides | 1 | 1 | 1
206.456(i) | Write and sign contract revisions or amendments by all parties to an arm's-length contract | 1 | 1 | 1
206.458(a)(1), (b)(1), (c)(1)(i), (c)(1)(iii), (c)(2)(i), (c)(2)(iii) | Deduct the reasonable actual coal washing allowance costs incurred under an arm's-length contract, and allowance based upon their reasonable actual costs under a non-arm's-length or no contract, after submitting a completed page one of Form MMS-4292, Coal Washing Allowance Report, containing the actual costs for the previous reporting period, within 3 months after the end of the calendar year after the initial and for succeeding reporting periods, and report deduction on Form MMS-4430 for an arm's-length, or a non-arm's-length, or no contract | 2 | 1 | 2
206.458(a)(3) | Provide written information justifying your washing costs when MMS determines your washing value unreasonable | AUDIT PROCESS. See Note.
206.458(b)(2)(iv) | The lessee may not later elect to change to the other alternative without MMS approval | 1 | 1 | 1
206.458(b)(2)(iv)(A) | Elect either a straight-line depreciation method based on the life of equipment or reserves, or a unit of production method | 1 | 1 | 1
206.458(c)(1)(iv), (c)(2)(vi) | Submit arm's-length washing contracts and all related data used on Form MMS-4292 | AUDIT PROCESS. See Note.
206.461(a)(1), (b)(1), (c)(1)(i), (c)(1)(iii), (c)(2)(i), (c)(2)(iii) | Submit a completed page one of Form MMS-4293, Coal Transportation Allowance Report, of reasonable, actual transportation allowance costs incurred by the lessee for transporting the coal under an arm's-length contract, in which you may claim a transportation allowance retroactively for a period of not more than 3 months prior to the first day of the month that you filed the form with MMS, unless MMS approves a longer period upon a showing of good cause by the lessee. Submit also a completed Form MMS-4293 based upon the lessee's reasonable actual costs under a non-arm's-length or no contract. (Emphasis added.) | 2 | 1 | 2
206.461(a)(3) | Provide written information justifying your transportation costs when MMS determines your transportation value unreasonable | AUDIT PROCESS. See Note.
206.461(b)(2)(iv) | Submit completed Form MMS-4293 after a lessee has elected to use either method for a transportation system | 1 | 1 | 1
206.461(b)(2)(iv)(A) | Submit completed Form MMS-4293 to compute depreciation for election to use either a straight-line depreciation, or unit-of-production method | 1 | 1 | 1
206.461(b)(3) | Submit completed Form MMS-4293 for exception from the requirement of computing actual costs | 1 | 1 | 1
206.461(c)(1)(iv), (c)(2)(vi) | Submit arm's-length transportation contracts, production and operating agreements, and related documents used on Form MMS-4293 | AUDIT PROCESS. See Note.
206.463 | Propose the value of coal for royalty purposes to MMS for an ad valorem Federal coal lease | 1 | 1 | 1
206.464 | Notify MMS if, prior to use, sale, or other disposition, you enhance the value of coal | 1 | 1 | 1
Part 210—Forms and Reports
Subpart E—Solid Minerals, General
210.201(a)(1); 206.259(c)(1)(i), (c)(2), (e)(2); 206.262(c)(1), (c)(2)(i), (e)(2); 206.458(c)(4), (e)(2); 206.461(c)(4), (e)(2) | Submit a completed Form MMS-4430. Report washing and transportation allowances as a separate line on Form MMS-4430 for arm's-length, non-arm's-length, or no contract sales, unless MMS approves a different reporting procedure. Submit also a corrected Form MMS-4430 to reflect actual costs, together with any payment, in accordance with instructions provided by MMS | .75 | 1,668 | 1,251
210.202(a)(1), (c)(1) | Submit sales summaries via electronic mail where possible for all coal and other solid minerals produced from Federal and Indian leases and for any remote storage site | .50 | 1,140 | 570
210.203(a) | Submit sales contracts, agreements, and contract amendments for sale of all coal and other solid minerals produced from Federal and Indian leases with ad valorem royalty terms | 1 | 30 | 30
210.204(a)(1) | Submit facility data if you operate a wash plant, refining, ore concentration, or other processing facility for any coal, sodium, potassium, metals, or other solid minerals produced from Federal or Indian leases with ad valorem royalty terms | .25 | 360 | 90
210.205(a), (b) | Submit detailed statements, documents, or other evidence necessary to verify compliance, as requested | AUDIT PROCESS. See Note.
Subpart H—Geothermal Resources
210.351 | Maintain geothermal records on microfilm, microfiche, or other recorded media | Hour burden covered under OMB Control Number 1010-0139.
210.352 | Submit additional geothermal information on special forms or reports | 1 | 1 | 1
210.353 | Submit completed Form MMS-2014 monthly once sales or utilization of geothermal production occur | Hour burden covered under OMB Control Number 1010-0139.
Part 212—Records and Forms Maintenance
Subpart E—Solid Minerals—General
212.200(a) | Maintain all records pertaining to Federal and Indian solid minerals leases for 6 years after records are generated unless the record holder is notified, in writing | .25 | 4,064 | 1,016
Subpart H—Geothermal Resources
212.351(a) | Retain accurate and complete records for payments of royalties, rentals, and other amounts due of Federal geothermal leases | Hour burden covered under OMB Control Numbers 1010-0139 (for Forms MMS-2014 and MMS-4054).
212.351(b) | Maintain all records pertaining to Federal geothermal leases by a lessee, operator, revenue payor, or other person for 6 years | Hour burden covered under OMB Control Numbers 1010-0139 (for Forms MMS-2014 and MMS-4054).
Part 217—Audits and Inspections
Subpart E—Coal
217.200 | Furnish, free of charge, duplicate copies of audit reports that express opinions on such compliance with Federal lease terms | AUDIT PROCESS. See Note.
Subpart F—Other Solid Minerals
217.250 | Furnish, free of charge, duplicate copies of annual or other audits of your books | AUDIT PROCESS. See Note.
Subpart G—Geothermal Resources
217.300 | The Secretary or his/her authorized representative, will initiate and conduct audits or reviews that relate to compliance with applicable regulations | AUDIT PROCESS. See Note.
Part 218—Collection of Royalties, Rentals, Bonuses, and Other Monies
Due the Federal Government and Credits and Incentives Due Lessees
Subpart B—Oil and Gas, General
218.57(a)(2), (b)(3)(i) | Person (“informant”) should submit any information he or she believes would be valuable to MMS in writing, in the form of a letter and notify the MMS Director that he/she is claiming a reward | 1 | 1 | 1
Subpart E—Solid Minerals—General
218.201(b); 206.457(b); 206.460(d) | You must tender all payments under § 218.51 except for Form MMS-4430 payments, include both your customer identification and your customer document identification numbers on your payment document, and you shall be liable for any additional royalties, plus interest, if improperly determined a washing or transportation allowance | .0055 | 1,368 | 8
218.203(a), (b) | Recoup an overpayment on Indian mineral leases through a recoupment on Form MMS-4430 against the current month's royalties and submit the tribe's written permission to MMS | 1 | 1 | 1
Subpart F—Geothermal Resources
218.300 | Submit all rental and deferred bonus payments when due and pay in value all royalties due determined by MMS | Hour burden covered under OMB Control Number 1010-0139.
218.301 | The payor shall tender all payments | Hour burden covered under OMB Control Number 1010-0139.
218.304 | Pay the direct use fees in addition to the annual rental due | Hour burden covered under OMB Control Number 1010-0139.
218.305(a) | Pay advanced royalties, under 43 CFR 3212.15(a)(1) to retain your lease, that equal to the average monthly royalty you paid under 30 CFR part 206, subpart H | Hour burden covered under OMB Control Number 1010-0139.
218.306(a)(2) | You may receive a credit against royalties if MMS approves in advance your contract | 4 | 1 | 4
218.306(b) | Pay in money any royalty amount that is not offset by the credit allowed under this section | Hour burden covered under OMB Control Number 1010-0139.
Total Burden | 9,880 | 3,670
Note: AUDIT PROCESS—The Office of Regulatory Affairs determined that the audit process is exempt from the Paperwork Reduction Act of 1995 because MMS staff asks non-standard questions to resolve exceptions.

Estimated Annual Reporting and Recordkeeping “Non-hour Cost” Burden: We have identified no “non-hour cost” burden associated with the collection of information.

Public Disclosure Statement: The PRA (44 U.S.C. 3501 et seq.) provides that an agency may not conduct or sponsor, and a person is not required to respond to, a collection of information unless it displays a currently valid OMB control number.

Comments: Before submitting an ICR to OMB, PRA Section 3506(c)(2)(A) requires each agency to “* * * provide 60-day notice in the Federal Register * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

The PRA also requires agencies to estimate the total annual reporting “non-hour cost” burden to respondents or recordkeepers resulting from the collection of information. If you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information; monitoring, sampling, and testing equipment; and record storage facilities. Generally, your estimates should not include equipment or services purchased: (i) Before October 1, 1995; (ii) to comply with requirements not associated with the information collection; (iii) for reasons other than to provide information or keep records for the Government; or (iv) as part of customary and usual business or private practices.

We will summarize written responses to this notice and address them in our ICR submission for OMB approval, including appropriate adjustments to the estimated burden. We will provide a copy of the ICR to you without charge upon request. We also will post the ICR at http://www.mrm.mms.gov/Laws_R_D/FRNotices/FRInfColl.htm.

Public Comment Policy: We will post all comments, including names and addresses of respondents, at http://www.regulations.gov. Before including your address, phone number, e-mail address, or other personal identifying information in your comment, be advised that your entire comment—including your personal identifying information—may be made publicly available at any time. While you can ask us in your comment to withhold from public view your personal identifying information, we cannot guarantee that we will be able to do so.

MMS Information Collection Clearance Officer: Arlene Bajusz (202) 208-7744.

Dated April 2, 2010.
Gregory J. Gould,
Associate Director for Minerals Revenue Management.

[FR Doc. 2010-8196 Filed 4-9-10; 8:45 am]

BILLING CODE 4310-MR-P